DEPARTMENT OF AGRICULTURE

Forest Service

Notice of Public Open House Meetings for the Tongass Land and Resource Management Plan Amendment

AGENCY: Forest Service, USDA.

ACTION: Notice.

SUMMARY: The Tongass National Forest is working to complete an amendment to the Tongass Land and Resource Management Plan (forest plan) by August 2016. The scope of the plan amendment is narrowly focused to accomplish a transition to young growth management as provided in the Secretary's Memorandum (1044-009), and to make renewable energy development more permissive on the Tongass. Changes to the forest plan are being developed under the new National Forest System land management planning rule (36 CFR part 219) (2012 planning rule), and embody the provisions of the National Forest Management Act. The Tongass is the first national forest to amend a plan completed under the 1982 planning rule using the 2012 planning rule.

Based on public scoping comments received on the Notice of Intent (NOI) that was published in the Federal Register (FR) on May 27, 2014 (79 FR 30074), as well as comments received on the five-year review of the forest plan, four issues were identified that focus on: (1) Young-growth transition; (2) renewable energy; (3) roadless areas; and (4) wildlife habitat and the old growth conservation strategy.

Three public open houses have been planned in Juneau, Sitka and Ketchikan, Alaska to share information with the public about the progress being made on the Proposed Forest Plan Amendment and Draft EIS, and to provide opportunity for the public to comment on the Draft Plan Monitoring Program.

DATES: The public open house dates and times are:

1. January 26, 2015, 5:00 p.m. to 8 p.m., Juneau, AK.

2. January 28, 2015, 5:00 p.m. to 8 p.m., Sitka, AK.

3. February 2, 2015, 5:00 p.m. to 8 p.m., Ketchikan, AK.

Comments concerning the Tongass National Forest Draft Plan Monitoring Program will be accepted for 30 days following publication of this Notice.

ADDRESSES: The public open house locations are:

1. Juneau—USDA Forest Service (Juneau Ranger District/Admiralty National Monument Conference Room), 8510 Mendenhall Loop Road, Juneau, AK 99801.

2. Sitka—Harrigan Centennial Hall (Rousseau Room), 330 Harbor Drive, Sitka, AK 99835.

3. Ketchikan—Southeast Alaska Discovery Center, 50 Main Street, Ketchikan, AK 99901.

The Tongass National Forest Draft Plan Monitoring Program is available for public review and located at http://www.fs.usda.gov/main/tongass/landmanagement/planning.

Send or hand-deliver written comments on the Tongass National Forest Draft Plan Monitoring Program to: Tongass National Forest, Attn: Susan Howle, 648 Mission Street, Ketchikan, Alaska 99901. The FAX number is (907) 228-6215. Comments may be sent via email to: comments-alaska-tongass@fs.fed.us with “Tongass National Forest Draft Plan Monitoring Program” on the subject line. Comments should be provided prior to the close of the comment period and should clearly articulate the reviewer's concerns and contentions.

In all correspondence, please include your name, address, and organization name if you are commenting as a representative of an organization. While you can ask us in your comment to withhold your personal identifying information from public review, we cannot guarantee that we will be able to do so.

In addition to this Notice, display ads will be placed in the Juneau Empire, Sitka Sentinel and Ketchikan Daily News (newspaper of record).

FOR FURTHER INFORMATION CONTACT: Susan Howle, Project Manager, Tongass National Forest, (907) 228-6340, showle@fs.fed.us.

Individuals who use telecommunication devices for the deaf (TDD) may call the Federal Information Relay Service (FIRS) at 1-800-877-8339 between 8 a.m. and 8 p.m., Eastern Time, Monday through Friday.

SUPPLEMENTARY INFORMATION: The 2012 planning rule requires that an existing plan's monitoring program must be made to conform to the monitoring requirements of the rule within 4 years of the rule's May 9, 2012 effective date (May 9, 2016), or as soon as practicable.

The Tongass National Forest has a robust plan monitoring program that already addresses many of the eight requirements listed in the 2012 Planning Rule. The Draft Plan Monitoring Program will transition the monitoring plan out of the forest plan, thus providing the opportunity to more easily adapt to changing conditions on the forest.

Forrest Cole,
Forest Supervisor, Tongass National Forest.

[FR Doc. 2015-01095 Filed 1-22-15; 8:45 am]

BILLING CODE 3410-11-P